DEPARTMENT OF COMMERCE

Bureau of Industry and Security

Materials Processing Equipment Technical Advisory Committee; Notice of Open Meeting

The Materials Processing Equipment Technical Advisory Committee (MPETAC) will meet on December 4, 2003 at 9 a.m. in Room 6087B of the Herbert C. Hoover Building, 14th Street between Pennsylvania and Constitution Avenues, NW., Washington, DC. The Committee advises the Office of the Assistant Secretary for Export Administration with respect to technical questions that affect the level of export controls applicable to materials processing equipment and related technology.

Agenda:

1. Opening remarks and introductions.

2. Approval of minutes from previous meeting.

3. Presentation of papers and comments by the public.

4. Status on List Review.

5. Comments on machine tool license.

6. Review of MPETAC proposal on 5-axis large machine tools.

7. Review of MPETAC proposal on jig grinder machine tools.

The meeting will be open to the public and a limited number of seats will be available. Reservations are not accepted. To the extent that time permits, members of the public may present oral statements to the Committee. Written statements may be submitted at any time before or after the meeting. However, to facilitate distribution of public presentation materials to Committee members, the Committee suggests that presenters forward the public presentation materials two weeks prior to the meeting date to the following address: Ms. Lee Ann Carpenter, Advisory Committees MS: 1099D, Bureau of Industry and Security, U.S. Department of Commerce, Washington, DC 20230.

For more information contact Lee Ann Carpenter at (202) 482-2583.
Dated: November 6, 2003.
Lee Ann Carpenter,
Committee Liaison Officer.

[FR Doc. 03-28396 Filed 11-12-03; 8:45 am]

BILLING CODE 3510-JT-M